DEPARTMENT OF TRANSPORTATION

Federal Railroad Administration

Environmental Impact Statement for the Milwaukee, WI (Milwaukee Intermodal Station) to Minneapolis, MN (Minneapolis Transportation Interchange) Rail Corridor

AGENCY: Federal Railroad Administration, Department of Transportation.

ACTION: Notice of intent to prepare an Environmental Impact Statement.

SUMMARY: FRA is issuing this notice to advise the public that a Tier I Environmental Impact Statement (EIS) will be prepared for the Milwaukee, WI to Minneapolis-St. Paul, MN (Milwaukee-Twin Cities) High-Speed Rail Corridor Program. The project includes passenger stations, maintenance facilities, and the construction of a high-speed rail line between Milwaukee and the Twin Cities. This corridor is part of a larger network of high-speed passenger rail corridors in the Midwest, with a hub in Chicago, IL. The effort to develop these high-speed rail corridors and expand the passenger rail system in the Midwest is known as the Midwest Regional Rail Initiative (MWRRI). FRA is issuing this notice to solicit public and agency input into the development of the scope of the EIS and to advise the public that outreach activities conducted by FRA will be considered in the preparation of the EIS. Alternatives under consideration include taking no action (No Build), as well as several build alternatives along a variety of corridors between Milwaukee and the Twin Cities.

DATES: Locations, dates, and start and end times for public meetings involving the EIS are listed in the SUPPLEMENTARY INFORMATION section of this notice.

FOR FURTHER INFORMATION CONTACT: Mr. Daniel Krom, Director, Passenger Rail Office, Minnesota Department of Transportation, 395 John Ireland Boulevard, MS 480, St. Paul, MN 55155, telephone (651)-366-3193; or Ms. Colleen Vaughn, Office of Railroad Policy and Development, Federal Railroad Administration (FRA), 1200 New Jersey Avenue, SE., MS-20/W38-303, Washington, DC 20590, telephone (202) 493-6096.

SUPPLEMENTARY INFORMATION: FRA, in cooperation with the Minnesota Department of Transportation (Mn/DOT), and the Wisconsin Department of Transportation (WisDOT), will prepare a Tier 1 EIS for the Milwaukee-Twin Cities High-Speed Rail Corridor Program from the Milwaukee Intermodal Station in Milwaukee, WI to the Minneapolis Transportation Interchange in Minneapolis, MN. The objective of the tiered EIS is to evaluate potential intercity passenger rail route alternatives at the corridor level and will result in the creation of a Service Development Plan for the corridor.

Objectives: The objectives of this MWRRI project are to meet current and future regional travel needs through significant improvements to the level and quality of passenger rail service and provide a stimulus for joint development in communities served by the system by:

• Using existing rail rights-of-way to connect rural, small urban, and major metropolitan areas;

• Improving safety, reliability and on-time performance;

• Providing a transportation choice for smaller communities which do not have or are under-served by commercial air service;

• Providing improved travel times that are competitive with the automobile mode; and

• Using modern train equipment operating at speeds up to 110 mph.

Environmental Review Process: The EIS will be developed in accordance with Council on Environmental Quality (CEQ) regulations (40 CFR part 1500 et seq.) implementing the National Environmental Policy Act (NEPA), FRA's Procedures for Considering Environmental Impacts (64 FR 28545; May 26, 1999). FRA, with Mn/DOT and WisDOT, will use a tiered process, as provided for in 40 CFR 1508.28 and in accordance with FRA guidance, in the completion of the environmental review of the Project. The Tier 1 EIS will address broad corridor-level issues and proposals. Subsequent phases or tiers will analyze, at a greater level of detail, narrower site-specific proposals based on the decisions made in Tier 1.

Tier 1: The Tier 1 EIS will result in a NEPA document with the appropriate level of detail for corridor-level decisions and will address broad overall issues of concern, including but not limited to:

• Confirming the purpose and need for the proposed action.

• Confirming the study area appropriate to assess reasonable and feasible alternatives.

• Identifying a comprehensive set of goals and objectives for the corridor in conjunction with the project sponsors and other stakeholders. These goals and objectives will be crafted to allow comprehensive evaluation of all aspects of the project necessary to achieve the goals, including train operations, vehicles and infrastructure.

• Identifying the reasonable and feasible alternatives to be considered including a no action/no build alternative, consistent with the current and planned use of the corridor and the existing services within and adjacent to the study area.

• Developing criteria and screen alternatives to eliminate those alternatives that do not meet the purpose and need of the proposed action.

• Identifying the general alignment(s) of the reasonable and feasible alternatives.

• Identifying right-of-way requirements for the reasonable and feasible alternatives.

• Identifying the infrastructure and equipment investment requirements for the reasonable and feasible alternatives.

• Identifying the operational changes required for the reasonable and feasible alternatives.

• Describing the environmental impacts associated with proposed changes in passenger rail train frequency, speed, and on-time performance.

• Characterizing the environmental consequences of the reasonable and feasible alternatives.

• Establishing the timing and sequencing of independent actions to maintain a state of good repair and to implement the proposed action.

• Identifying a preferred alternative for route alignment.

• Selecting component projects for Tier 2 NEPA documentation.

Alternatives: A No-Build Alternative will be studied as the baseline for comparison with the proposed project. The No-Build Alternative represents other transportation modes such as auto, air travel, intercity bus, and existing rail and the physical characteristics and capacities as they exist at the time of the Tier 1 EIS, with planned and funded improvements that will be in place at the time the project becomes operational. Several alternatives will be evaluated in the Tier 1 EIS including:

• Route A1: This alternative uses Canadian Pacific Railway (CP) right-of-way from Milwaukee, WI to Watertown, WI; right-of-way owned by the State of Wisconsin from Watertown to Junction A in Madison; Union Pacific Railroad Company (UP) right-of-way under lease to Wisconsin & Southern Railroad (WSOR) from Junction A to Johnson Street Yard in Madison, WI; CP right-of-way from Johnson Street Yard in Madison through Portage, WI and La Crosse, WI to Red Wing, MN and to Hastings, MN; CP or BNSF Railway Co. (BNSF) right-of-way from Hastings, MN to St. Paul, MN; and CP and BNSF rights-of-way from St. Paul, MN to Minneapolis, MN.

• Route A2: This alternative uses CP right-of-way from Milwaukee, WI to Watertown, WI, through Portage, WI and La Crosse, WI to Red Wing, MN and to Hastings, MN; CP or BNSF right-of-way from Hastings, MN to St. Paul, MN; and CP and BNSF rights-of-way from St. Paul, MN to Minneapolis, MN.

• Route B1: This alternative uses CP right-of-way from Milwaukee, WI to Watertown, WI; right-of-way owned by the State of Wisconsin from Watertown to Junction A in Madison, WI; UP right-of-way under lease to WSOR from Junction A to Johnson Street Yard in Madison; CP right-of-way from Johnson Street Yard in Madison through Portage, WI to Winona, MN; Dakota, Minnesota, & Eastern Railroad Co. (DM&E) right-of-way through Rochester, MN to Owatonna, MN; UP right-of-way to Northfield, MN; CP right-of-way to St. Paul, MN; and CP and BNSF rights-of-way from St. Paul to Minneapolis, MN.

• Route B2: This alternative uses CP right-of-way from Milwaukee, WI to Watertown, WI, through Portage, WI to Winona, MN; DM&E right-of-way through Rochester, MN to Owatonna, MN; UP right-of-way to Northfield, MN; CP right-of way to St. Paul, MN; and CP and BNSF rights-of-way from St. Paul to Minneapolis, MN.

• Route C1: This alternative uses CP right-of-way from Milwaukee, WI to Watertown, WI; right-of-way owned by the State of Wisconsin from Watertown to Junction A in Madison, WI; UP right-of-way under lease to WSOR from Junction A to Johnson Street Yard in Madison; CP right-of-way from Johnson Street Yard in Madison through Portage, WI to Camp Douglas, WI; UP right-of-way through Eau Claire, WI to St. Paul, MN; and CP and BNSF rights-of-way to Minneapolis, MN.

• Route C2: This alternative uses CP right-of-way from Milwaukee, WI to Watertown, WI, through Portage, WI to Camp Douglas, WI; UP right-of-way through Eau Claire, WI to St. Paul, MN; and CP and BNSF rights-of-way to Minneapolis, MN.

Scoping and Comments: FRA encourages broad participation in the EIS process during scoping and subsequent review of the resulting environmental documents. Comments and suggestions are invited from all interested agencies and the public at large to ensure the full range of issues related to the proposed action and all reasonable alternatives are addressed and all significant issues are identified. In particular, FRA is interested in determining whether there are areas of environmental concern where there might be the potential for significant impacts identifiable at a corridor level. Letters describing the proposed project and soliciting comments will be sent to appropriate Federal, State, and local agencies, and appropriate railroads. Public agencies with jurisdiction are requested to advise the FRA, Mn/DOT, and WisDOT of the applicable permit and environmental review requirements of each agency, and the scope and content of the environmental information that is germane to the agency's statutory responsibilities in connection with the proposed improvements.

Agency scoping meetings have been and will be held for this project at the dates and times below. These meetings have been and will be advertised locally and held at the following cities and dates:

1. St. Paul, MN on November 29, 2010 from 5 p.m.-7 p.m.

2. La Crosse, WI/La Crescent, MN on November 30, 2010 from 5 p.m.-7 p.m.

3. Eau Claire, WI on December 1, 2010 from 5 p.m.-7 p.m.

4. Fond du Lac, WI on December 2, 2010 from 5 p.m.-7 p.m.

5. Rochester, MN on December 6, 2010 from 5 p.m.-7 p.m.

6. Madison, WI on December 7, 2010 from 5 p.m.-7 p.m.

7. Milwaukee, WI at a date and location to be determined.

Scoping meetings will also take place after the publication of this Notice in the Federal Register. Two additional rounds of public meetings will be held in the same seven locations stated above during February 2011 and February 2012.

Letters describing the proposed action alternatives and soliciting comments will be sent to appropriate Federal, State, and local agencies in Minnesota and Wisconsin. An iterative public involvement/information program will support the process. The program will involve newsletters, a project hotline, informational workshops, small group meetings, and other methods to solicit and incorporate public input throughout the planning process. To ensure that the full range of issues relating to the proposed action is addressed, comments and suggestions are invited from all interested parties. Comments and questions concerning the extension of the proposed action should be directed to Mn/DOT or to the FRA at the addresses provided above. Additional information can be obtained by visiting the project Web site at http://www.dot.state.mn.us/passengerrail/mwrri/phase7.html or sending an email to MWRRIPhase7@state.mn.us.

Issued in Washington, DC, on December 6, 2010.
Mark E. Yachmetz,
Associate Administrator for Railroad Policy and Development.

[FR Doc. 2010-31013 Filed 12-8-10; 8:45 am]

BILLING CODE 4910-06-P